ENVIRONMENTAL PROTECTION AGENCY

[FRL-9908-76-OA]

Notification of a Public Teleconference and Meeting of the Science Advisory Board Chemical Assessment Advisory Committee Augmented for the Review of EPA's Draft Trimethylbenzenes Assessment

AGENCY: Environmental Protection Agency.

ACTION: Notice.

SUMMARY: The Environmental Protection Agency (EPA) Science Advisory Board (SAB) Staff Office announces two meetings of the Chemical Assessment Advisory Committee Augmented for the Review of the Draft Trimethylbenzenes Assessment (CAAC-TMB Panel). A public teleconference will be held to discuss the charge questions, to learn about the development of the agency's draft Integrated Risk Information System (IRIS) Toxicological Review of Trimethylbenzenes (August 2013 Revised External Review Draft), and to learn about the Health and Environment Research Online (HERO) database prior to a face-to-face meeting that will be held in Arlington, VA. The purpose of the face-to-face meeting is to receive a briefing on the EPA's enhancements to the IRIS Program, including the process for developing IRIS assessments, and to conduct a peer review of the Agency's draft IRIS Toxicological Review of Trimethylbenzenes (August 2013 Revised External Review Draft).

DATES: The public teleconference will be held on May 22, 2014, from 1:00 p.m. to 5:00 p.m. (Eastern Time). The public face-to-face meeting will be held on June 17-June 19, 2014. A briefing on the EPA's enhancements to the IRIS Program will be held on June 17, 2014 from 9:00 a.m. to 12:00 p.m. The peer review of the Agency's draft IRIS Toxicological Review of Trimethylbenzenes (August 2013 Revised External Review Draft) will commence on June 17, 2014 from 1:15 p.m. to 5:30 p.m. (Eastern Time). The peer review will continue on June 18-19, 2014, from 8:30 a.m. to 5:00 p.m. (Eastern Time).

ADDRESSES: The public teleconference will be conducted by telephone. The public face-to-face meetings will be held at the Crowne Plaza Washington National Airport, 1480 Crystal Drive, Arlington, VA, 22202.

FOR FURTHER INFORMATION CONTACT: Any member of the public who wants further information concerning these public meetings may contact Mr. Thomas Carpenter, Designated Federal Officer (DFO) for the CAAC TMB Panel, by telephone or at (202) 564-4885 or via email at carpenter.thomas@epa.gov. General information concerning the EPA SAB can be found at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB CAAC TMB Panel will hold a public teleconference and public face-to-face meeting. The purpose of the teleconference is to discuss the charge questions, to learn about the development of the agency's draft IRIS Toxicological Review of Trimethylbenzenes (August 2013 Revised External Review Draft) and learn about the Health and Environment Research Online (HERO) database. The purposes of the face-to-face meeting are to receive a briefing on the EPA's enhancements to the IRIS Program, including the process for developing IRIS assessments, and to conduct a peer review of the EPA's draft IRIS assessment of trimethylbenzenes. This SAB panel will provide advice to the Administrator through the chartered SAB.

Background: EPA's Office of Research and Development requested that the SAB conduct a peer review of the draft IRIS Toxicological Review of Trimethylbenzenes (August 2013 Revised External Review Draft). The EPA SAB Staff Office augmented the SAB CAAC with subject matter experts to provide advice through the chartered SAB regarding this IRIS assessment. The SAB CAAC-TMB Review Panel was scheduled to meet on February 18-20, 2014 to conduct a peer review of the draft IRIS assessment of trimethylbenzenes (79 Federal Register 5400-5402). To allow more time for the public to prepare for the meeting, the agency asked the SAB to reschedule its February meeting. Additional information about this advisory activity, including, the formation of the SAB CAAC-TMB Review Panel, can be found at the following URL: http://yosemite.epa.gov/sab/sabproduct.nsf/fedrgstr_activites/IRIS%20Trimethylbenzenes?OpenDocument

A meeting agenda and other meeting materials will be posted at the above noted URL prior to the meeting.

Technical Contacts: Any technical questions concerning EPA's draft IRIS assessment of trimethylbenzenes should be directed to Dr. Samantha Jones by telephone at 703-347-8580 or by email at jones.samantha@epa.gov.

Availability of Meeting Materials: Prior to the meeting, the review documents, agenda and other materials will be accessible through the calendar link on the blue navigation bar at http://www.epa.gov/sab/. Materials may also be accessed at the following SAB Web page http://yosemite.epa.gov/sab/sabproduct.nsf/fedrgstr_activites/IRIS%20Trimethylbenzenes?OpenDocument.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, and/or the group conducting the activity, for the SAB to consider during the advisory process. Input from the public to the SAB will have the most impact if it provides specific scientific or technical information or analysis for SAB committees and panels to consider or if it relates to the clarity or accuracy of the technical information. Members of the public wishing to provide comment should contact the DFO directly. Oral Statements: In general, individuals or groups requesting an oral presentation on the teleconference will be limited to three minutes and oral presentation at the face-to-face meeting will be limited to five minutes. Interested parties wishing to provide comments should contact Mr. Thomas Carpenter (preferably via email) at the contact information noted above by May 13, 2014 to be placed on the list of public speakers for the teleconference and by June 9, 2014 to be placed on the list of public speakers for the face-to-face meeting. Written Statements: Written statements will be accepted throughout the advisory process; however, for timely consideration by Committee/Panel members, statements should be supplied to the DFO via email at the contact information noted above at least one week prior to a public meeting. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Thomas Carpenter at (202) 564-4885 or carpenter.thomas@epa.gov. To request accommodation of a disability, please contact Mr. Carpenter preferably at least ten days prior to the meeting to give EPA as much time as possible to process your request.

Dated: March 18, 2014.
Thomas H. Brennan,
Deputy Director, EPA Science Advisory Board Staff Office.

[FR Doc. 2014-06551 Filed 3-24-14; 8:45 am]

BILLING CODE 6560-50-P